DEPARTMENT OF ENERGY

Office of Energy Efficiency and Renewable Energy

[Docket Number: EERE-2012-VT-0049]

Vehicle Technologies Program; Request for Information

AGENCY: Office of Energy Efficiency and Renewable Energy and Office of the General Counsel, Department of Energy.

ACTION: Request for information; request for comment.

SUMMARY: The U.S. Department of Energy (DOE) wishes to continue promoting and improving the electronic tools it makes available to assist fleets and consumers in reducing petroleum consumption in vehicles. DOE is seeking partners interested in including customized versions of the electronic tools, as well as other relevant data sets and content, on their Web sites. To facilitate this process, DOE is publishing this request for information (RFI) to solicit feedback on DOE's current Web site tools.

DATES: Written comments and information are requested by January 9, 2013.

ADDRESSES: Interested persons are encouraged to submit comments using the Federal eRulemaking Portal at http://www.regulations.gov. Follow the instructions for submitting comments. Alternatively, interested persons may submit comments, identified by docket number EERE-2012-VT-0049, by one of the following methods:

1. Email: Shannon.shea@ee.doe.gov. Include EERE-2012-VT-0049 in the subject line of the message.

2. Mail or deliver: Ms. Shannon Shea, U.S. Department of Energy, (EE-2G), Room 5F-034, 1000 Independence Avenue SW., Washington, DC 20585-0121, Telephone: (202) 586-8161. Please submit one signed paper original.

Instructions: All submissions received must include the agency name and docket number for this request.

Docket: For access to the docket to read background documents, or comments received, go to the Federal eRulemaking Portal at http://www.regulations.gov.

FOR FURTHER INFORMATION CONTACT:

Ms. Shannon Shea, U.S. Department of Energy, (EE-2G), Room 5F-034, 1000 Independence Avenue SW., Washington, DC 20585-0121, Telephone: (202) 586-8161, Email: shannon.shea@ee.doe.gov.

Mr. Ari Altman, U.S. Department of Energy, Office of the General Counsel, (GC-71), 1000 Independence Avenue SW., Washington, DC 20585, Telephone: (202) 287-6307, Email: ari.altman@hq.doe.gov.

SUPPLEMENTARY INFORMATION:

I. Authority and Background

FuelEconomy.gov is authorized under the 1975 Energy Policy and Conservation Act (Pub. L. 94-163), which required DOE to publish and distribute the annual Fuel Economy Guide to consumers. DOE established FuelEconomy.gov to complement the printed Guide and expand the accessibility of information to consumers. The Alternative Fuels Data Center (AFDC; afdc.energy.gov) was authorized by the 1988 Alternative Motor Fuels Act (Pub. L. 100-494), which contained provisions to formally establish an alternative fuels education and data resource center. Clean Cities, within the Office of Energy Efficiency and Renewable Energy's Vehicle Technologies Program, is authorized under the Energy Policy Act of 1992 (Pub. L. 102-486) and manages both FuelEconomy.gov and the AFDC. Under these statutes, both Web sites are authorized to make information and data available to the public. By providing a variety of tools, databases, and informational resources on fuel-efficient and alternative fuel vehicles, both Web sites help users make decisions about which transportation options are right for them.

These Web sites feature 14 interactive web tools (afdc.energy.gov/tools) that allow users to view and use data in a variety of ways. These tools include calculators, interactive maps, and data searches.

DOE also offers eight “widgets” based on the Web site functionality described above. A widget is a simplified version of a tool or Web site that provides many of the same features, but in a separate application that independent Web site operators can “drop in” to their Web sites with a minimal amount of web coding. For example: DOE launched the Find-A-Car widget on FuelEconomy.gov (http://www.fueleconomy.gov/feg/findacar.shtml) in September 2012. The full version of this tool allows users to search for any car from 1984 onward and compare it to any other one on fuel economy, greenhouse gas emissions, energy impact, and cost of fuel. The widget version has a simpler and more targeted purpose, allowing users to find the fuel economy of any car, also from 1984 onward. FuelEconomy.gov also has a “Fuel Saving Tip of the Week” widget, launched in May 2011. This widget is not based on a pre-existing interactive tool, but rather on FuelEconomy.gov's Gas Mileage Tips section. Both widgets are available at www.fueleconomy.gov/widgets.

DOE launched the Vehicle Cost Calculator (www.afdc.energy.gov/calculator) and accompanying widgets on the AFDC in October 2011. The full version of this tool allows users to provide basic information about driving habits to compare emissions and lifetime operating costs of specific vehicle models, including conventional cars and trucks, as well as vehicles running on alternative fuels such as electricity, ethanol, natural gas, or biodiesel. This tool has a basic widget version, which allows users to select a representative alternative fuel vehicle (not a specific model, as in the full version) and compare its fuel cost and emissions to a similar conventional vehicle. This tool also has four specialty widgets that each focus on a specific type of alternative fuel vehicle (biodiesel, compressed natural gas, E85, and electric drive).

Finally, DOE launched the Alternative Fueling Station Locator widget on the AFDC in August 2012. The full tool allows users to obtain addresses, maps, and driving directions for charging and alternative fueling stations near a particular address. The widget version allows users to embed a specific section of the locator map on their Web site, so that they can highlight a particular geographic area or a particular fuel.

Working with outside partners to modify and distribute both these tools and their accompanying widgets will expose this information to a larger pool of users and help consumers find it on Web sites that they already frequent.

II. Public Participation

A. Submission of Comments

DOE will accept comments in response to this RFI under the timeline provided in the DATES section above. Comments submitted to the Department through the eRulemaking Portal or by email should be provided in WordPerfect, Microsoft Word, PDF, or text file format. Those responding should avoid the use of special characters or any form of encryption, and wherever possible, comments should include the electronic signature of the author. Comments submitted to the Department by mail or hand delivery/courier should include one signed original paper copy. No telefacsimiles will be accepted.

The Department encourages interested parties to contact DOE if they would like to meet in person to discuss their comments. The Department's policy governing ex parte communications is posted on the Office of the General Counsel's Web site at: http://www.gc.energy.gov/1309.htm.

Confidential Business Information. According to 10 CFR 1004.11, any person submitting information that he or she believes to be confidential and exempt by law from public disclosure should submit via email, postal mail, or hand delivery two well-marked copies: one copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

It is DOE's policy that all comments may be included in the public docket, without change and as received, including any personal information provided in the comments (except information deemed to be exempt from public disclosure).

B. Issues on Which DOE Seeks Information

Although DOE welcomes comments on any aspect of this request for information, DOE is particularly interested in receiving comments and views of interested parties concerning the availability of DOE's transportation-oriented electronic tools, as well as the potential to partner with Internet information providers, as set forth below.

(1) Current Electronic Tools and Content

DOE would like to expand the reach of its current electronic tools designed to reduce petroleum use in transportation. The Vehicle Cost Calculator and the Alternative Fueling Station Locator on the AFDC, as well as the Find-A-Car tool and Gas Saving Tips on FuelEconomy.gov, are all currently available in “widget” form. Are the full tools currently available useful? Are the widget versions of these tools useful? Are there other existing tools on the AFDC or FuelEconomy.gov that your company would like available as widgets? Would your company embed the current widgets on its Web site? Why or why not? Are there other types of content on the AFDC and FuelEconomy.gov sites besides the current electronic tools that Web site operators would like to use?

(2) Interest in Partnering on Electronic Tool Customization

While any independent Web site can use the tools in widget form, DOE is interested in partnering with major Web sites that provide information on vehicles to consumers and fleet managers to offer customized versions of these widgets. Ideal candidates are entities whose users, stakeholders, or members look to them for information about vehicle purchases. The primary objective of the effort is to pair the capabilities of interested entities with DOE's electronic tools to provide additional value to partner Web sites, and in turn, more value and education about transportation options to end users. DOE seeks to identify entities with whom to collaborate on this effort. Note that DOE is not offering funding related to this request. What companies would be interested in such a collaboration? What services do they currently offer to users and how would these widgets complement those services? What is the membership or user base of these existing Web sites? What types of customization would these Web sites want for the widgets described previously?

Issued in Washington, DC, on November 19, 2012.
Patrick B. Davis,
Program Manager, Vehicle Technologies Program, Energy Efficiency and Renewable Energy.

[FR Doc. 2012-29759 Filed 12-7-12; 8:45 am]

BILLING CODE 6450-01-P